Proclamation 10583 of May 19, 2023

Emergency Medical Services Week, 2023

By the President of the United States of America

A Proclamation

Every day, across our country, paramedics, emergency medical technicians, 911 dispatchers, and other first responders rush to fellow Americans' aid with compassion and lifesaving strength. During Emergency Medical Services (EMS) Week, we celebrate their service and recommit to getting them the resources and support they need to do their essential frontline work for us all.

The pandemic made every American aware of the absolute courage and incredible sacrifices made by EMS providers nationwide. They have had to work longer hours, taking on new roles and new risks, often at great personal cost—whether braving a deadly virus, rushing to save victims of gun violence, enduring dangerous natural disasters, or simply supporting people at the most vulnerable moments of their lives. We owe them. We have a duty to care for those who care for us.

Since I took office, my Administration has worked to help State, local, Tribal, and territorial governments keep EMS providers on the payroll, buy better equipment, and improve training. We have made resources available to help first responders deal with trauma and burnout. And we are helping to ease the crippling student debt burden that so many EMS providers live with by finally fixing the Public Service Loan Forgiveness program. I am proud that, to date, we have helped over 450,000 public service employees, including EMS providers, see billions of dollars in student loans erased. Meanwhile, we are working to ease staffing shortages by making it easier for fire departments to retain and recruit more firefighters, who often provide emergency medical services so other first responders will not be stretched thin.

Saving lives is not just what tireless EMS providers do—it is who they are. I have seen their commitment up close. They are the steel spine of our Nation, and they give each of us the peace of mind of knowing that someone will be there to catch us if we fall.

NOW, THEREFORE, I, JOSEPH R. BIDEN JR., President of the United States of America, by virtue of the authority vested in me by the Constitution and the laws of the United States, do hereby proclaim May 21 through May 27, 2023, as National Emergency Medical Services Week. I call upon public officials, doctors, nurses, paramedics, EMS providers, and all the people of the United States to observe this week with appropriate programs, ceremonies, and activities to honor our brave EMS workers and to pay tribute to the EMS providers who have lost their lives in the line of duty.

IN WITNESS WHEREOF, I have hereunto set my hand this nineteenth day of May, in the year of our Lord two thousand twenty-three, and of the Independence of the United States of America the two hundred and forty-seventh.

[FR Doc. 2023-11202

Filed 5-23-23; 8:45 am]

Billing code 3395-F3-P